INTERNATIONAL TRADE COMMISSION

[Inv. No. 337-TA-1200]

Certain Electronic Devices, Including Streaming Players, Televisions, Set Top Boxes, Remote Controllers, and Components Thereof; Institution of Investigation

AGENCY: U.S. International Trade Commission.

ACTION: Notice.

SUMMARY: Notice is hereby given that a complaint was filed with the U.S. International Trade Commission on April 16, 2020, under section 337 of the Tariff Act of 1930, as amended, on behalf of Universal Electronics Inc. of Scottsdale, Arizona. Supplements were filed on April 21, April 24, and May 1, 2020. The complaint, as supplemented, alleges violations of section 337 based upon the importation into the United States, the sale for importation, and the sale within the United States after importation of certain devices, including streaming players, televisions, set top boxes, remote controllers, and components thereof by reason of infringement of certain claims of U.S. Patent No. 9,911,325 (“the '325 Patent”); U.S. Patent No. 7,589,642 (“the '642 Patent”); U.S. Patent No. 7,969,514 (“the '514 Patent”); U.S. Patent No. 10,600,317 (“the '317 Patent”); U.S. Patent No. 10,593,196 (“the '196 Patent”), and U.S. Patent No. 9,716,853 (“the '853 Patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3He1p@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2019).

Scope of Investigation: Having considered the complaint, the U.S. International Trade Commission, on May 18, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 4, 6-9, and 11-16 of the '325 patent; claims 1, 2-7, 12, 14, 19, 20, and 22-25 of the '642 patent; claims 1-6 and 20 of the '514 patent; claims 1-11 of the '317 patent; claims 1-22 of the '196 patent; claims 1-3 and 5-8 of the '853 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “televisions, set-top boxes, remote control devices, streaming devices, and sound bars that incorporate the infringing technology”;

(3) For the purpose of the investigation so instituted, the following are hereby named as parties upon which this notice of investigation shall be served:

(a) The complainant is:

Universal Electronics, Inc., 15147 N Scottsdale Road, Suite H300, Scottsdale, Arizona 85254

(b) The respondents is/are the following entities alleged to be in violation of section 337, and is/are the parties upon which the complaint is to be served:

Roku Inc., 150 Winchester Circle, Los Gatos, CA 95032

TCL Electronics Holdings Limited, f/k/a, TCL Multimedia Holdings Limited, 7th Floor, Bulding 22E, 22 Science Park East Avenue, Hong Kong Science Park, Shatin, New Territories, Hong Kong

Shenzhen TCL New Technology Company Limited, 5 Shekou Industrial Avenue Shenzhen, 518067, P.R. China

TCL King Electrical Appliances, (Huizhou) Company Limited, 78 Zhongkai Development Zone, Huizhou, 516006, P.R. China

TTE Technology Inc. d/b/a/TCL USA and TCL North America, 555 South Promenade Avenue, Suite 103, Corona, CA 92879

TCL Corp., TCL Technology Building, 17 Huifeng 3rd Road, Zhongkai Hi-Tech Development District, Huizhou City, Guangdong Province, P.R. China

TCL Moka, Int'l Ltd., 13/F, TCL Tower, 8 Tai Chung Road Tsuen Wan, New Territories, Hong Kong

TCL Overseas Marketing Ltd., 13/F, TCL Tower, 8 Tai Chung Road Tsuen Wan, New Territories, Hong Kong

TCL Industries Holdings Co., Ltd., 13/F, TCL Tower, 8 Tai Chung Road Tsuen Wan, New Territories Hong Kong

TCL Smart Device (Vietnam) Company, Ltd., No. 26 VSIP II-A, Street 32, Vietnam Singapore Industrial Park II-A, Tan Binh Commune, Bac Tan Uyen District, Binh Duong Province, Vietnam

Hisense Co. Ltd., Hisense Tower, No. 17 Donghai West Road, South District, Qingdao, Shandong Provence 266071, P.R. China

Hisense Electronics Manufacturing Company of America Corporation d/b/a Hisense USA, 7310 McGinnis Ferry Road, Suwanee, Georgia 20024

Hisense Import & Export Co. Ltd., Hisense Tower, No. 17 Donghai West Road, South District, Qingdao, Shandong Provence 266071, P.R. China

Qingdao Hisense Electric Co., Ltd., 218 Qianwangang Road, Economic Technology Development Zone, Qingdao, Shandong Province 266555, P.R. China

Hisense International (HK) Co., Ltd., Room 3101-5, Singga Coml Ctr, 148 Connaught Road West, Sheng Wan Hong Kong (SAR)

Funai Electric Co., Ltd., 7-7-1 Nakagaito, Daito city, Osaka 574-0013, Japan

Funai Corporation Inc., 201 Route 17 North, Suite 903, Rutherford, NJ 07070

Funai (Thailand) Co., Ltd., 835 Moo 18, Pakchong-Lumsompung Road, Tambon Chantuek, Amphur Pakchong, Nakhon Ratchasima, Thailand, 30130

(4) For the investigation so instituted, the Chief Administrative Law Judge, U.S. International Trade Commission, shall designate the presiding Administrative Law Judge.

The Office of Unfair Import Investigations will not participate as a party in this Investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 18, 2020
William Bishop,
Supervisory Hearings and Information Officer.

[FR Doc. 2020-11026 Filed 5-21-20; 8:45 am]

BILLING CODE 7020-02-P